DEPARTMENT OF COMMERCE

National Oceanic and Atmospheric Administration

50 CFR Part 635

[Docket No. 220919-0193; RTID 0648-XF137]

Atlantic Highly Migratory Species; Atlantic Bluefin Tuna Fisheries; Closure of the General Category September Fishery for 2025

AGENCY: National Marine Fisheries Service (NMFS), National Oceanic and Atmospheric Administration (NOAA), Commerce.

ACTION: Temporary rule; closure.

SUMMARY: NMFS closes the General category fishery for Atlantic bluefin tuna (BFT) for the remainder of the September time period. The General category may only retain, possess, or land large medium and giant (i.e., measuring 73 inches (185 centimeters (cm) curved fork length (CFL) or greater) BFT when the fishery is open. This action applies to Atlantic Tunas General category (commercial) permitted vessels and Atlantic highly migratory species (HMS) Charter/Headboat permitted vessels with a commercial sale endorsement when fishing commercially for BFT. This action also waives the previously scheduled restricted-fishing days (RFDs) for the remainder of the September time period. With the RFDs waived during the closure, fishermen aboard General category permitted vessels and HMS Charter/Headboat permitted vessels may tag and release BFT of all sizes, subject to the requirements of the catch-and-release and tag-and-release programs. On October 1, 2025, the fishery will reopen automatically and previously scheduled RFDs for October will resume.

DATES: Effective 11:30 p.m., local time, September 18, 2025, through September 30, 2025.

FOR FURTHER INFORMATION CONTACT: Aiman Raza, aiman.raza@noaa.gov, or Larry Redd, Jr., larry.redd@noaa.gov, by email or phone at 301-427-8503.

SUPPLEMENTARY INFORMATION: Atlantic BFT fisheries are managed under the 2006 Consolidated HMS Fishery Management Plan (HMS FMP) and its amendments, pursuant to the Magnuson-Stevens Fishery Conservation and Management Act (Magnuson-Stevens Act; 16 U.S.C. 1801 et seq.) and consistent with the Atlantic Tunas Convention Act (ATCA; 16 U.S.C. 971 et seq.). HMS implementing regulations are at 50 CFR part 635. Section 635.27(a) divides the U.S. BFT quota, established by the International Commission for the Conservation of Atlantic Tunas (ICCAT) and as implemented by the United States among the various domestic fishing categories, per the allocations established in the HMS FMP and its amendments. NMFS is required under the Magnuson-Stevens Act at 16 U.S.C. 1854(g)(1)(D) to provide U.S. fishing vessels with a reasonable opportunity to harvest quotas under relevant international fishery agreements such as the ICCAT Convention, which is implemented domestically pursuant to ATCA.

Under § 635.28(a)(1), NMFS files a closure action with the Office of the Federal Register for publication when a BFT quota (or subquota) is reached or is projected to be reached. Retaining, possessing, or landing BFT under that quota category is prohibited on or after the effective date and time of a closure action for that category until the opening of the relevant subsequent quota period or until such date as specified.

As described in § 635.27(a), the current baseline U.S. BFT quota is 1,316.14 metric tons (mt) (not including the 25 mt ICCAT allocated to the United States to account for bycatch of BFT in pelagic longline fisheries in the Northeast Distant Gear Restricted Area per § 635.27(a)(3)). The General category baseline quota is 710.7 mt. The General category baseline quota is suballocated to time periods. Relevant to this action, the baseline subquota for the September time period is 188.3 mt.

Closure of the September 2025 BFT General Category Fishery

To date, reported landings for the BFT General category September time period total 98.5 mt. As described above, the baseline subquota for the September time period is 188.3 mt. However, landings estimates from 2024 indicate that the General, Harpoon, and Angling category quotas were exceeded. Additionally, the 2025 General category January through March time period subquota was exceeded. Thus, under § 635.27(a)(9) and consistent with ICCAT requirements, in order to ensure the overall U.S. quota is not exceeded, NMFS expects to take action later this year to reduce the various category quotas consistent with the estimated overharvest. While that action is not yet final, NMFS must still consider the implications of reduced quotas for various categories, including the General category. If both the 2024 and 2025 U.S. adjusted quotas are exceeded, under ICCAT requirements, the United States could be required to pay back 125 percent of the second year's (2025) overharvest in 2026.

Based on that consideration and the current landings data, as well as average catch rates and anticipated fishing conditions, NMFS has determined that the September time period subquota is projected to be reached and exceeded shortly. Therefore, retaining, possessing, or landing large medium or giant (i.e., measuring 73 inches (185 cm) CFL or greater) BFT by persons aboard vessels permitted in the Atlantic Tunas General category and HMS Charter/Headboat permitted vessels (while fishing commercially) must cease at 11:30 p.m., local time on September 18, 2025.

Pursuant to Executive Order 14276, “Restoring American Seafood Competitiveness,” (April 17, 2025), NMFS is making prudent efforts to identify strategies to expand fishing opportunities within the requirements of the Magnuson-Stevens Act. Should NMFS determine that reasonable fishing opportunities are available at a later date, NMFS may reopen the September fishery. The BFT General category will automatically reopen October 1, 2025, for the October through November time period. This action applies to Atlantic Tunas General category (commercial) permitted vessels and HMS Charter/Headboat permitted vessels with a commercial sale endorsement when fishing commercially for BFT and is taken consistent with the regulations at § 635.28(a)(1).

Waiver for Remaining September RFDs

On May 31, 2024 (89 FR 47095), NMFS published a final rule, which among other things, implemented RFDs every Tuesday, Friday, and Saturday from July 1 through November 30 of each year. Since the fishery will be closed for the remainder of the September time period, NMFS has decided to waive the previously scheduled RFDs for the remainder of that time period. Previously scheduled RFDs (i.e., every Tuesday, Friday, and Saturday) will resume on October 1, 2025.

With the RFDs waived during a closure, consistent with § 635.23(a)(7), fishermen aboard General category permitted vessels and HMS Charter/Headboat permitted vessels may tag and release BFT of all sizes, subject to the requirements of the catch-and-release and tag-and-release programs at § 635.26. All BFT that are released must be handled in a manner that will maximize their survival, and without removing the fish from the water, consistent with requirements at § 635.21(a)(1). For additional information on safe handling, see the “Careful Catch and Release” brochure available at https://www.fisheries.noaa.gov/resource/outreach-and-education/careful-catch-and-release-brochure/.

Monitoring and Reporting

NMFS will continue to monitor the BFT fisheries closely. Per § 635.5(b)(2)(i)(A), dealers are required to submit landing reports within 24 hours of a dealer receiving BFT. Late reporting by dealers compromises NMFS' ability to timely implement actions such as quota and retention limit adjustments, as well as closures, and may result in enforcement actions. Additionally, and separate from the dealer reporting requirement, General category and HMS Charter/Headboat permitted vessel owners are required per § 635.5(a)(4) to report their own catch of all BFT retained or discarded dead within 24 hours of the landing(s) or end of each trip, by accessing https://hmspermits.noaa.gov/home, using the HMS Catch Reporting app, or calling 888-872-8862 (Monday through Friday from 8 a.m. until 4:30 p.m. Eastern Time).

After the fishery reopens on October 1, depending on the level of fishing effort and catch rates of BFT, NMFS may determine that additional adjustments are necessary to ensure available subquotas are not exceeded or to enhance scientific data collection from, and fishing opportunities in, all geographic areas as specified under § 635.27(a)(7). If needed, subsequent adjustments will be published in the Federal Register. In addition, fishermen may access https://hmspermits.noaa.gov/home, for updates on quota monitoring and inseason adjustments.

Classification

NMFS issues this action pursuant to section 305(d) of the Magnuson-Stevens Act (16 U.S.C. 1855(d)) and regulations at 50 CFR part 635 and this action is exempt from review under Executive Order 12866.

The Assistant Administrator for NMFS (AA) finds that pursuant to 5 U.S.C. 553(b)(B), there is good cause to waive prior notice of, and an opportunity for public comment on, this action because it is impracticable and contrary to the public interest for the following reasons. Specifically, the regulations implementing the 2006 Consolidated HMS FMP and amendments provide for inseason retention limit adjustments and fishery closures to respond to the unpredictable nature of BFT availability on the fishing grounds, the migratory nature of this species, and the regional variations in the BFT fishery. Providing prior notice and an opportunity to comment is impracticable and contrary to the public interest as this fishery is currently underway and, based on the most recent landings information, the 2025 September subquota is projected to be reached shortly. Delaying this action could result in BFT landings that exceed the final 2025 General category quota, which may result in future potential quota reductions for other BFT categories or the General category quota, depending on the magnitude of a potential September subquota overharvest. NMFS notes that the public had an opportunity to comment on the underlying rulemakings that established the U.S. BFT quota and the inseason adjustment and closure criteria.

For all of the above reasons, the AA also finds that pursuant to 5 U.S.C. 553(d)(3), there is good cause to waive the 30-day delay in effective date.

Authority: 16 U.S.C. 971 et seq. and 1801 et seq.

Dated: September 17, 2025.
Kelly Denit,
Director, Office of Sustainable Fisheries, National Marine Fisheries Service.

[FR Doc. 2025-18218 Filed 9-17-25; 4:15 pm]

BILLING CODE 3510-22-P